DEPARTMENT OF HEALTH AND HUMAN SERVICES

Indian Health Service

RIN 0917-ZA22

Reimbursement Rates for Calendar Year 2008

AGENCY: Indian Health Service, HHS.

ACTION: Notice.

SUMMARY: Notice is given that the Director of Indian Health Service (IHS), under the authority of sections 321(a) and 322(b) of the Public Health Service Act (42 U.S.C. 248 and 249(b)), Public Law 83-568 (42 U.S.C. 2001 (a)), and the Indian Health Care Improvement Act (25 U.S.C. 1601 et seq.), has approved the following rates for inpatient and outpatient medical care provided by IHS facilities for Calendar Year 2008 for Medicare and Medicaid beneficiaries and beneficiaries of other Federal programs. The Medicare Part A inpatient rates are excluded from the table below as they are paid based on the prospective payment system. Since the inpatient rates set forth below do not include all physician services and practitioner services, additional payment may be available to the extent that those services meet applicable requirements. Public Law 106-554, section 432, dated December 21, 2000, authorized IHS facilities to file Medicare Part B claims with the carrier for payment for physician and certain other practitioner services provided on or after July 1, 2001.

Inpatient Hospital per Diem Rate (Excludes Physician/Practitioner Services)
[Calendar Year 2008]
Lower 48 States | $1,811
Alaska | 2,255
Outpatient per Visit Rate (Excluding Medicare)
Lower 48 States | $253
Alaska | 423
Outpatient per Visit Rate (Medicare)
Lower 48 States | $215
Alaska | 365
Medicare Part B Inpatient Ancillary per Diem Rate
Lower 48 States | $373
Alaska | 650
Outpatient Surgery Rate (Medicare)
Established Medicare rates for freestanding Ambulatory Surgery Centers

Effective Date for Calendar Year 2008 Rates

Consistent with previous annual rate revisions, the Calendar Year 2008 rates will be effective for services provided on/or after January 1, 2008 to the extent consistent with payment authorities including the applicable Medicaid State plan.

Dated: November 29, 2007.
Robert G. McSwain,
Acting Director, Indian Health Service.

Editorial Note: This document was received at the Office of the Federal Register on March 25, 2008.

[FR Doc. E8-6431 Filed 3-28-08; 8:45 am]

BILLING CODE 4165-16-P